DEPARTMENT OF VETERANS AFFAIRS

Special Medical Advisory Group, Notice of Meeting

The Department of Veterans Affairs (VA) gives notice under the Federal Advisory Committee Act that the Special Medical Advisory Group will meet on March 29, 2019 at the Ralph H. Johnson VA Medical Center, 109 Bee Street, Charleston, South Carolina, from 9:15 a.m. to 3:30 p.m. EST. The meeting is open to the public.

The purpose of the Committee is to advise the Secretary of Veterans Affairs and the Under Secretary for Health on the care and treatment of Veterans, and other matters pertinent to the Veterans Health Administration (VHA).

The agenda for the meeting will include discussions on VHA transformation into a high reliability organization, commitment to zero harm, implementation of whole-health care, measuring quality in our Community Care Program and reducing clinical variation.

There will not be a public comment period, however, members of the public may submit written statements for review by the Committee to: Department of Veterans Affairs, SMAG—Office of Under Secretary for Health (10), Veterans Health Administration, 810 Vermont Avenue NW, Washington, DC 20420 or by email at VASMAGDFO@va.gov. Comments will be accepted until close of business on March 27, 2019

Any member of the public wishing to attend the meeting or seeking additional information should email VASMAGDFO@va.gov or call 202-461-7005.

Dated: February 12, 2019.
LaTonya L. Small,
Federal Advisory Committee Management Officer.

[FR Doc. 2019-02547 Filed 2-14-19; 8:45 am]

BILLING CODE 8320-01-P